DEPARTMENT OF HEALTH AND HUMAN SERVICES

Health Resources and Services Administration

Fiscal Year 2003 Competitive Application Cycle for the National Research Service Award Program

AGENCY: Health Resources and Services Administration, HHS.

ACTION: Notice.

SUMMARY: The Health Resources and Services Administration (HRSA) announces that Fiscal Year 2003 applications will be accepted for the National Research Service Award Program administered by HRSA pending availability of funds. To administer this program, HRSA receives one percent of all NRSA funding provided to the National Institutes of Health.

Authorizing Legislation: These applications are solicited under the National Research Service Awards (42 CFR part 66) and section 487(d)(3) of the Public Health Service (PHS) Act, as amended, which provides funding to eligible institutions to develop or enhance research training opportunities in primary medical care for individuals selected by the institutions.

Purpose of Award: To provide grants to institutional postdoctoral research training programs to train researchers in primary medical care.

Eligible Applicants: An applicant must be an entity that has received Federal grant or contract support under sections 747 (Family Medicine Training), 748 (General Internal Medicine and General Pediatrics Training, revised in 1998 to section 747), or 749 (General Dentistry Training, revised in 1998 to section 747) of the PHS Act.

Review Criteria: The review criteria are: (1) History of performance of faculty and trainees; (2) primary care research focus; and (3) trainee recruitment and retention. Additional information pertaining to the Review Criteria will be listed in the Supplement to Instructions for application form PHS-398.

Estimated Amount of Available Funds: Pending final approval of the FY2003 budget, it is anticipated that $6,600,000 will be available in fiscal year 2003 for this program.

Estimated Number of Awards: It is estimated that 25 awards will be made for fiscal year 2003.

Application Requests, Availability, Dates and Addresses: The PHS 398 application is currently available and may be downloaded via the web at http://www.hrsa.gov/bhpr/grants2002. The instructions for preparing the Institutional National Research Service Award Applications are contained within application form PHS 398. In addition to that material, it is also important to download and use the Supplement to Instructions for application form PHS 398, Application for Institutional National Research Service Awards Grant For Research Training In Primary Medical Care that will be posted on the Health Resources and Services Administration, Bureau of Health Professions web site at http://www.hrsa.gov/bhpr/grants2002. The Supplement to Instructions for application form PHS 398 will be available for downloading via the Web on April 25, 2002. Hard copies of the application form PHS 398 and the Supplement to Instructions may be obtained by contacting the HRSA Grants Application Center at 901 Russell Avenue, Suite 450, Gaithersburg, MD 20879, (877) 477-2123. To be considered for competition, applications must be postmarked or received on or before June 14, 2002 in the HRSA Grants Application Center.

FOR FURTHER INFORMATION CONTACT: Shelby Biedenkapp or Marcia Britt, Division of Medicine and Dentistry, Bureau of Health Professions, HRSA, Room 9A-20, Parklawn Building, 5600 Fishers Lane, Rockville, Maryland 20857, or e-mail address sbiedenkapp@hrsa.gov or mbritt@hrsa.gov, telephone number is 301-443-1467 and fax number is 301-443-1945.

Paperwork Reduction Act: The Application for the National Research Service Award Program has been approved by the Office of Management and Budget (OMB) under the Paperwork Reduction Act. The OMB clearance number is 0925-0001.

Dated: April 19, 2002.
Elizabeth M. Duke,
Administrator.

[FR Doc. 02-10231 Filed 4-25-02; 8:45 am]

BILLING CODE 4165-15-P